DEPARTMENT OF INTERIOR

Geological Survey

Scientific Earthquake Studies Advisory Committee

AGENCY: Geological Survey.

ACTION: Notice of meeting.

SUMMARY: Pursuant to Public Law 106-503, the Scientific Earthquake Studies Advisory Committee will hold its first meeting. The meeting location is 245 Market Street, 14th floor, San Francisco, California. The Committee is comprised of 10 members from academia, industry, and State government. The Committee shall advise the Director of the U.S. Geological Survey (USGS) on matters relating to the USGS's participation in the National Earthquake Hazards Reduction Program.

Topics to be discussed by the Committee include a review of the current status and 5-year plan accomplishments of the U.S. Geological Survey's National Earthquake Hazards Reduction Program. This will include a critique of the accomplishments of the Program over the past 5 years in earthquake hazards assessments, in research on earthquake processes and effects, and in earthquake monitoring and notification.

Meeting of the Scientific Earthquake Studies Advisory Committee are open to the public.

DATES: May 20, 2002, commencing at 9 a.m. and adjourning at 12 Noon on May 21, 2002.

Contact: Dr. John R. Filson, U.S. Geological Survey, 12201 Sunrise Valley Drive, Reston, Virginia 20192, (703) 648-6785.

Dated: April 8, 2002.
P. Patrick Leahy,
Associate Director for Geology.

[FR Doc. 02-10567 Filed 4-29-02; 8:45 am]

BILLING CODE 4310-Y7-M